DEPARTMENT OF ENERGY

Federal Energy Regulatory Commission

[Docket No. CP01-12-000]

El Paso Natural Gas Company; Notice of Intent To Prepare an Environmental Assessment for the Proposed Line No. 2039 Pipeline Relocation Project and Request for Comments on Environmental Issues

December 1, 2000.

The staff of the Federal Energy Regulatory Commission (FERC or Commission) will prepare an environmental assessment (EA) that will discuss the environmental impacts of the Line No. 2039 Relocation Project involving construction and operation of facilities by El Paso Natural Gas Company (El Paso) in Maricopa County, Arizona.¹ These facilities would consist of about 6.88 miles of 16-inch-diameter pipeline and one meter station. This EA will be used by the Commission in its decision-making process to determine whether the project is in the public convenience and necessity.

¹ El Paso's application was filed with the Commission under Section 7 of the Natural Gas Act and Part 157 of the Commission's regulations.

If you are landowner receiving this notice, you may be contacted by a pipeline company representative about the acquisition of an easement to construct, operate, and maintain the proposed facilities. The pipeline company would seek to negotiate a mutually acceptable agreement. However, if the project is approved by the Commission, that approval conveys with it the right to eminent domain. Therefore, if easement negotiations fail to produce an agreement, the pipeline company could initiate condemnation proceedings in accordance with state law.

A fact sheet prepared by the FERC entitled “An Interstate Natural Gas Facility On My Land? What Do I Need To Know?” was attached to the project notice El Paso provided to landowners. This fact sheet addresses a number of typically asked questions, including the use of eminent domain and how to participate in the Commission's proceedings. It is available for viewing on the FERC Internet website (www.ferc.fed.us).

Summary of the Proposed Project

El Paso wants to relocate a portion of the Line No. 2039 Pipeline located on the southwest side of Phoenix, Arizona, in order to avoid residential and industrial encroachment on the existing pipeline and meet DOT class requirements in the future. In addition, El Paso wants to increase the diameter of the pipe to satisfy increased gas demand expected from the expanded West Phoenix Power Plant at the north end of this pipeline.

El Paso seeks authority to abandon 6.88 miles of the existing 16-inch-diameter Line No. 2039 Pipeline and relocate it up to 2700 feet to the east on new right-of-way (ROW). The Line No. 2039 Pipeline would be abandoned in place, including those sections under roads, for about 2.9 miles, and would be abandoned by removal for about 4.0 miles. Four tap and valve assemblies with appurtenant facilities located on the existing Line No. 2039 Pipeline would be abandoned either in place or by removal. The existing Southern Avenue Meter Station would be abandoned by removal and relocated onto the new Line No. 2039 Pipeline in the northwest quadrant of Southern Avenue and 43rd Avenue Pig launching and receiving facilities would be installed at the Laveen Meter Station on Elliot Road and at the West Phoenix Meter Station north of Buckeye Road. The Salt River would be crossed using the open-trenching method. A block valve would be installed on each side of the Salt River. A 3,800-foot-long section of the new Line No. 2039 Pipeline from milepost 7.18 to 7.90 was installed in June 2000 under El Paso's blanket authority and would be tied into the proposed Line No. 2039 Pipeline.

The location of the project facilities is shown in appendix 1, figures 1 and 2.

Land Requirements for Construction

Replacement of the proposed facilities would require the use of 105 acres of land, primarily agricultural, with some residential land. This includes 73 acres of previously undisturbed ROW for the new pipeline, road, rail, and canal crossings, the new Southern Avenue Meter Station and associated staging area, and pigging facilities. Previously disturbed ROW in the amount of 32 acres would be required for abandoning sections of pipeline by removal.

The EA Process

The National Environmental Policy Act (NEPA) requires the Commission to take into account the environmental impacts that could result from an action whenever it considers the issuance of a Certificate of Public Convenience and Necessity. NEPA also requires us ² to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

² “We”, “us”, and “our” refer to the environmental staff of the Office of Energy Projects (OEP).

The EA will discuss impacts that could occur as a result of the construction and operation of the proposed project under these general headings:

• Geology and soils

• Water resources, fisheries, and wetlands

• Vegetation and wildlife

• Endangered and threatened species

• Public safety

• Land Use

• Cultural resources

• Air quality and noise

• Hazardous waste

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by El Paso. This preliminary list of issues may be changed based on your comments and our analysis.

• A 1750-foot-long, open trench crossing of the Salt River would use a 30- to 75-foot-wide trench to bury the pipeline 25 feet below the river bed.

• Construction would be within 50 feet of four residences on Elliot Road and 43rd Avenue.

• Construction would disturb habitat potentially suitable for the federally listed endangered Yuma clapper rail located in the Salt River floodplain.

• The project area crosses several sites that may eligible to the National Register of Historic Places, including historic and prehistoric irrigation systems. The historic Farmers Canal system would be crossed in the vicinity of Buckeye Road. El Paso proposes to avoid adversely effecting the currently used historic Roosevelt Canal by boring beneath it.

Public Participation

You can make a difference by providing us with your specific comments or concerns about the project. By becoming a commentor, your concerns will be addressed in the EA/EIS and considered by the Commission. You should focus on the potential environmental effects of the proposal, alternatives to the proposal (including alternative [locations/routes]), and measures to avoid or lessen environmental impact. The more specific your comments, the more useful they will be. Please carefully follow these instructions to ensure that your comments are received in time and properly recorded:

• Send an original and two copies of your letter to: David P. Boergers, Secretary, Federal Energy Regulatory Commission, 888 First St., NE., Room 1A, Washington, DC 20426.

• Label one copy of the comments for the attention of (Gas 2).

• Reference Docket No. CP00-012-000.

• Mail your comments so that they will be received in Washington, DC on or before January 2, 2001.

Comments may also be filed electronically via the Internet in lieu of paper. See 18 CFR 385.2001(a)(1)(iii) and the instructions on the Commission's web site at http://www.ferc.fed.us/efi/doorbell.htm under the link to the User's Guide. Before you can file comments you will need to create an account which can be created by clicking on “Login to File” and then “New User Account.”

Becoming an Intervenor

In addition to involvement in the EA scoping process, you may want to become an official party to the proceeding known as an “intervenor”. Intervenors play a more formal role in the process. Among other things, intervenors have the right to receive copies of case-related Commission documents and filings by the other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-0004 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-31127 Filed 12-6-00; 8:45 am]

BILLING CODE 6717-01-M